DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Data Collection on Marine Protected and Managed Areas.

Form Number(s): None.

OMB Approval Number: 0648-0449.

Type of Request: Regular submission.

Burden Hours: 293.

Number of Respondents: 250.

Average Hours Per Response: Inventory form for: new sites, 1 hour, 30 minutes; and updates, 30 minutes.

Needs and Uses: Executive Order 13158 directs the Department of Commerce and the Department of the Interior to work with partners to inventory the protection of U.S. oceans and coastal resources by developing a national system of marine protected areas. The Departments of Commerce and the Interior plan to work closely with state, territorial, local, and tribal governments, as well as other stakeholders, to identify and inventory the nation's existing marine protected and managed areas. Toward this end, the National Oceanic and Atmospheric Administration (NOAA) and the Department of the Interior (DOI) have created a data form to be used as a survey tool to collect and analyze information on these existing sites. This survey will allow NOAA and DOI to better understand and evaluate the existing protections for marine resources within marine protected and managed areas in the United States.

Affected Public: State, Local or Tribal Government.

Frequency: On occasion and one-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David__Rostker@omb.eop.gov.

Dated: June 3, 2008.
Gwellnar Banks,
Management Analyst, Office of the Chief Information Officer.

[FR Doc. E8-12702 Filed 6-5-08; 8:45 am]

BILLING CODE 3510-22-P